DEPARTMENT OF THE INTERIOR

Bureau of Reclamation

Agency Information Collection Activities Under OMB Review; Comment Request

AGENCY: Bureau of Reclamation, Interior.

ACTION: Notice of renewal of currently approved collection (OMB No. 1006-0023).

SUMMARY: In accordance with the Paperwork Reduction Act of 1995 (44 U.S.C. 3501 et seq.), this notice announces the following Information Collection Request (ICR) has been forwarded to the Office of Management and Budget (OMB) for review and comment: Limited Recipient Identification Sheet and Trust Information Sheet for Acreage Limitation, 43 CFR part 426, OMB Control Number: 1006-0023. The ICR describes the nature of the information collection and its expected cost and burden.

DATES: Your comments must be received on or before June 19, 2003.

ADDRESSES: You may send comments regarding the burden estimate, or any other aspect of the information collection, including suggestions for reducing the burden, to the Desk Officer for the Department of the Interior at the Office of Management and Budget, Office of Information and Regulatory Affairs, via facsimile at (202) 395-5806 or e-mail at Ruth_Solomon@omb.eop.gov. A copy of your comments should also be directed to the Bureau of Reclamation, Attention: D-5200, PO Box 25007, Denver, CO 80225-0007.

FOR FURTHER INFORMATION CONTACT: For further information or a copy of the proposed forms contact Stephanie McPhee, D-5200, PO Box 25007, Denver, CO 80225-0007; or by telephone: (303) 445-2897.

SUPPLEMENTARY INFORMATION: Title: Limited Recipient Identification Sheet and Trust Information Sheet for Acreage Limitation, 43 CFR part 426.

Abstract: Identification of limited recipients—Some entities that receive Reclamation irrigation water may believe themselves to be under the Reclamation Reform Act of 1982 (RRA) forms submittal threshold and consequently, may not submit the appropriate RRA form(s). However, some of these entities may in fact have a different RRA forms submittal threshold than what they believe it to be due to the number of natural persons benefitting from each entity. In addition, some entities that are exempt from the requirement to submit RRA forms due to the size of their landholdings (directly and indirectly owned and leased land) may in fact be receiving Reclamation irrigation water for which the full-cost rate must be paid because the entity first started to receive Reclamation irrigation water deliveries after October 1, 1981 (43 CFR 426.6(b)(2)). The information obtained through completion of the Limited Recipient Identification Sheet allows the Bureau of Reclamation (we, our, or us) to establish entities' compliance with Federal reclamation law. The Limited Recipient Identification Sheet is disbursed at our discretion.

Trust review—We are required to review and approve all trusts (43 CFR part 426.7(b)(2)) in order to ensure trusts meet the regulatory criteria specified in 43 CFR part 426.7. Land held in trust generally will be attributed to the beneficiaries of the trust rather than the trustee if the regulatory criteria are met. When we become aware of trusts with a relatively small landholding (40 acres or less), we may extend to those trusts the option to complete and submit for our review the proposed Trust Information Sheet instead of actual trust documents. If we find nothing on the completed, Trust Information Sheet that would warrant the further investigation of a particular trust, that trustee will not be burdened with submitting trust documents to us for in-depth review. The Trust Information Sheet is disbursed at our discretion.

Changes to the RRA Forms and the Instructions to Those Forms

Several proposed changes were made to the current forms prior to the 60-day comment period initiated by the notice published in the Federal Register on December 27, 2002 (67 FR 79145, Dec. 27, 2002). Those changes were designed to increase the respondents' understanding of the forms and how to complete them. Comments resulting from the 60-day comment period consisted of minor language revisions, layout revisions to specific areas of the forms, and the addition of two questions (one per form) that will diminish the need for Reclamation to pursue further information from respondents in certain cases. Changes based on the comments received were made when the changes resulted in increased clarity and increased correctness of the forms and the corresponding instructions. All other changes that were made are editorial or typographical in nature. The proposed revisions to the forms will be included starting in the 2004 water year.

Frequency: Generally, these forms will be submitted once per identified entity or trust. Each year, we expect new responses in accordance with the following numbers.

Respondents: Entity landholders and trusts identified by Reclamation that are subject to the acreage limitation provisions of Federal reclamation law.

Estimated Total Number of Respondents: 325.

Estimated Number of Responses per Respondent: 1.00.

Estimated Total Number of Annual Responses: 325.

Estimated Total Annual Burden on Respondents: 27 hours.

Estimate of Burden for Each Form:

Form No. | Estimated number of respondents | Frequency of response | Total annual responses | Burden estimate per form (in minutes) | Total burden hours
Limited Recipient Identification Sheet | 175 | 1.00 | 175 | 5 | 15
Trust Information Sheet | 150 | 1.00 | 150 | 5 | 12
Total | 325 | 1.00 | 325 |  | 25

Comments.

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to a collection of information unless it displays a currently valid OMB control number. Reclamation will display a valid OMB control number on the “Limited Recipient Identification Sheet” and the “Trust Information Sheet.” A Federal Register notice with a 60-day comment period soliciting comments on this collection of information was published in the Federal Register on December 27, 2002 (67 FR 79145, Dec. 27, 2002).

A list of the comments received and our responses to those comments will be sent to: (1) All districts, (2) all commenters, and (3) OMB with the ICR; it is also available from us upon request.

OMB has up to 60 days to approve or disapprove this information collection, but may respond after 30 days; therefore, public comment should be submitted to OMB within 30 days in order to assure maximum consideration.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: April 2, 2003.
Richard Rizzi,
Acting Director, Office of Policy.

[FR Doc. 03-12539 Filed 5-19-03; 8:45 am]

BILLING CODE 4310-MN-P